DEPARTMENT OF COMMERCE

Foreign-Trade Zones Board

[Docket 35-2007]

Foreign-Trade Zone 39 -- Dallas/Fort Worth, Texas, Application for Reorganization/Expansion

An application has been submitted to the Foreign-Trade Zones (FTZ) Board (the Board) by the Dallas/Fort Worth International Airport Board, grantee of FTZ 39, requesting authority to reorganize and expand its existing zone in the Dallas area within the Dallas Customs and Border Protection port of entry. The application was submitted pursuant to the provisions of the Foreign-Trade Zones Act, as amended (19 U.S.C. 81a-81u), and the regulations of the Board (15 CFR part 400). It was formally filed on August 8, 2007.

FTZ 39 was approved on August 17, 1978 (Board Order 133, 43 FR 37478, 8/23/78), and expanded on: December 11, 1992 (Board Order 613, 57 FR 61046, 12/23/92); December 27, 1994 (Board Order 723, 60 FR 2377, 1/9/95); December 27, 1994 (Board Order 724, 60 FR 2376, 1/9/95); March 12, 1999 (Board Order 1028, 64 FR 14212, 3/24/99); and, March 29, 2002 (Board Order 1213, 67 FR 17049, 4/9/02).

The zone project currently consists of the following six sites (5,182 acres total): Site 1 (2,400 acres)—within the 18,000-acre Dallas/Fort Worth International Airport complex; Site 2 (754 acres)—Southport Centre Industrial Park, South Dallas; Site 3 (552 acres)—within the 1,100-acre Grayson County Airport Complex, Grayson County; Site 4 (644 acres, 3 parcels)—Railhead Fort Worth site, intersection of Loop 820 (the Jim Wright Freeway) and Blue Mound Road (FM 156), Fort Worth; Site 5 (280 acres)—within the 745-acre Meacham Airport complex, intersection of Loop 820 and Interstate 35, Fort Worth; and, Site 6 (552 acres)—within the 1,060-acre Redbird Airport complex, intersection of Loop 12 and Interstate 35, Dallas.

The applicant is now requesting authority to reorganize and expand existing Site 2 and to expand the zone to include six additional sites in the Dallas area: Site 2—modify the site by deleting 108 acres due to changed circumstances and expand the site to include an additional 1,303 acres within the larger 6,000-acre Dallas Logistics Hub (in which Site 2 will be renamed) located in the Cities of Hutchins, Wilmer, Lancaster and Dallas (new total acreage—1,949 acres); Proposed Site 7 (39 acres)—Duke Intermodal Park located at Interstate 45 and E. Wintergreen Road, Hutchins; Proposed Site 8 (434 acres)—within the 650-acre Sunridge Business Park, located at Interstate 45 and East Pleasant Road, Wilmer; Proposed Site 9 (356 acres)—Dalport Business Park, located at the southwest corner of Interstate 45 and Beltline Road, Wilmer; Proposed Site 10 (50 acres)—within the 307-acre Lancaster Municipal Airport Complex, Lancaster; Proposed Site 11 (175 acres)—ProLogis 20/35 Industrial Park, located near the intersection of Interstate 20 and N. Houston School Road, Lancaster; and, Proposed Site 12 (112 acres)—Crossroads Trade Center, located at Interstate 35E and Danieldale Road, DeSoto. The sites are owned by The Allen Group, Duke Realty LLP, Wilmer Pleasant Run L.P., Argent Property Co., City of Lancaster, ProLogis, and Hillwood LIT II LP, respectively. The sites will provide warehousing and distribution space for area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is October 22, 2007. Rebuttal comments in response to material submitted during the foregoing period may be submitted during the subsequent 15-day period to November 5, 2007.

A copy of the application and accompanying exhibits will be available for public inspection at each of the following locations: Fort Worth U.S. Export Assistance Center, 808 Throckmorton Street, Fort Worth, TX 76102; and, Office of the Executive Secretary, Foreign-Trade Zones Board, Room 2111, U.S. Department of Commerce, 1401 Constitution Avenue, NW, Washington, DC 20230.

For further information, contact Camille Evans at Camille_Evans@ita.doc.gov or at (202) 482-2350.

Dated: August 10, 2007.
Pierre V. Duy,
Acting Executive Secretary.

[FR Doc. E7-16445 Filed 8-20-07; 8:45 am]

BILLING CODE 3510-DS-S